DEPARTMENT OF TRANSPORTATION

Federal Aviation Administration

14 CFR Part 39

[Docket No. FAA-2005-21435; Directorate Identifier 2004-NM-163-AD; Amendment 39-14257; AD 2005-18-17]

RIN 2120-AA64

Airworthiness Directives; Bombardier Model DHC-8-400 Series Airplanes

AGENCY: Federal Aviation Administration (FAA), Department of Transportation (DOT).

ACTION: Final rule.

SUMMARY: The FAA is adopting a new airworthiness directive (AD) for certain Bombardier Model DHC-8-400 series airplanes. This AD requires a one-time inspection of the fuel and hydraulic tubes, and corrective actions if necessary. This AD also requires modifying fairlead plate assemblies. This AD results from reports of chafing between fuel and hydraulic tubes and the fairlead plate where the tubes pass through the firewall. We are issuing this AD to prevent chafing of the fuel and hydraulic tubes, which could lead to fuel and/or hydraulic fluid leakage in the engine nacelle area and consequent fire or explosion.

DATES: This AD becomes effective October 14, 2005.

The Director of the Federal Register approved the incorporation by reference of a certain publication listed in the AD as of October 14, 2005.

ADDRESSES: You may examine the AD docket on the Internet at http://dms.dot.gov or in person at the Docket Management Facility, U.S. Department of Transportation, 400 Seventh Street SW., Nassif Building, room PL-401, Washington, DC.

Contact Bombardier, Inc., Bombardier Regional Aircraft Division, 123 Garratt Boulevard, Downsview, Ontario M3K 1Y5, Canada, for service information identified in this AD.

FOR FURTHER INFORMATION CONTACT: Richard Fiesel, Aerospace Engineer, Airframe and Propulsion Branch, ANE-171, FAA, New York Aircraft Certification Office, 1600 Stewart Avenue, suite 410, Westbury, New York 11590; telephone (516) 256-7504; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-8-400 series airplanes. That NPRM was published in the Federal Register on June 14, 2005 (70 FR 34409). That NPRM proposed to require a one-time inspection of the fuel and hydraulic tubes, and corrective actions if necessary. That NPRM also proposed to require modifying fairlead plate assemblies.

Explanation of Change to Applicability

We have revised the applicability of the proposed AD to identify model designations as published in the most recent type certificate data sheet for the affected models.

Comments

We provided the public the opportunity to participate in the development of this AD. We received no comments on the NPRM or on the determination of the cost to the public.

Conclusion

We have carefully reviewed the available data and determined that air safety and the public interest require adopting the AD with the change described previously. We have determined that this change will neither increase the economic burden on any operator nor increase the scope of the AD.

Costs of Compliance

This AD will affect about 18 airplanes of U.S. registry. The actions will take about 4 work hours per airplane, at an average labor rate of $65 per work hour. Required parts will cost about $200 per airplane. Based on these figures, the estimated cost of the AD for U.S. operators is $8,280, or $460 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-18-17 Bombardier, Inc. (Formerly de Havilland, Inc.): Amendment 39-14257. Docket No. FAA-2005-21435; Directorate Identifier 2004-NM-163-AD.

Effective Date

(a) This AD becomes effective October 14, 2005.

Affected ADs

(b) None.

Applicability

(c) This AD applies to Bombardier Model DHC-8-400 series airplanes, serial numbers 4003 through 4089 inclusive, certificated in any category.

Unsafe Condition

(d) This AD results from reports of chafing between fuel and hydraulic tubes and the fairlead plate where the tubes pass through the firewall. We are issuing this AD to prevent chafing of the fuel and hydraulic tubes, which could lead to fuel and/or hydraulic fluid leakage in the engine nacelle area and consequent fire or explosion.

Compliance

(e) You are responsible for having the actions required by this AD performed within the compliance times specified, unless the actions have already been done.

Service Bulletin Reference

(f) The term “service bulletin,” as used in this AD, means the Accomplishment Instructions of Bombardier Service Bulletin 84-54-09, Revision “B,” dated June 15, 2004.

Inspection, Corrective Action, and Modification

(g) For airplanes on which Bombardier Systems Drawings (SYD) 84-28-002 and SYD 84-29-006 have not been incorporated or on which Modsum 4-184081 and Modsum 4-184079 have not been incorporated: Within 500 flight hours after the effective date of this AD, do the actions specified in paragraph (i) of this AD.

(h) For airplanes on which Bombardier SYD 84-28-002 and SYD 84-29-006 have been incorporated or on which Modsum 4-184081 and Modsum 4-184079 have been incorporated: Within 4,000 flight hours after the effective date of this AD, do the actions specified in paragraph (i) of this AD.

(i) For airplanes identified in paragraphs (g) and (h) of this AD at the times specified in paragraphs (g) and (h) of this AD, do the actions specified in paragraphs (i)(1) and (i)(2) of this AD in accordance with the service bulletin.

(1) Do a general visual inspection of the fuel/hydraulic tubes for nicks, dents, chafing, or damage. If any nick, dent, chafing, or damage is found that is above the applicable limit specified as “Acceptable” in the service bulletin: Do the applicable corrective action in accordance with the service bulletin at the applicable time specified in the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(2) Modify the fairlead plate assemblies in accordance with the service bulletin.

Note 2: Bombardier Service Bulletin 84-54-09, Revision “B,” dated June 15, 2004, refers to GKN Aerospace Services Service Bulletin 1-71-20, dated April 7, 2004, as an additional source of service information for modifying the fairlead plate assemblies. The GKN service bulletin is included in the Bombardier service bulletin.

Actions Done According to Previous Issue of Service Bulletin

(j) Actions done before the effective date of this AD in accordance with Bombardier Service Bulletin 84-54-09, dated January 23, 2004; or Revision “A,” dated April 22, 2004; are acceptable for compliance with the corresponding requirements of this AD.

Parts Installation

(k) After the effective date of this AD, no person may install a plate, part number 85415048-107, 85415048-108, 85415087-107, or 85415087-108, on any airplane.

Alternative Methods of Compliance (AMOCs)

(l) The Manager, New York Aircraft Certification Office, FAA, has the authority to approve AMOCs for this AD, if requested in accordance with the procedures found in 14 CFR 39.19.

Related Information

(m) Canadian airworthiness directive CF-2004-07, dated April 14, 2004, also addresses the subject of this AD.

Material Incorporated by Reference

(n) You must use Bombardier Service Bulletin 84-54-09, Revision “B,” dated June 15, 2004, to perform the actions that are required by this AD, unless the AD specifies otherwise. The Director of the Federal Register approved the incorporation by reference of this document in accordance with 5 U.S.C. 552(a) and 1 CFR part 51. Contact Bombardier, Inc., Bombardier Regional Aircraft Division, 123 Garratt Boulevard, Downsview, Ontario M3K 1Y5, Canada, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 1, 2005.
Ali Bahrami,
Manager, Transport Airplane Directorate, Aircraft Certification Service.

[FR Doc. 05-17779 Filed 9-8-05; 8:45 am]

BILLING CODE 4910-13-P